DEPARTMENT OF INTERIOR

Fish and Wildlife Service

[Docket No. FWS-R8-ES-2013-N208; 81420-1113-0000-F3]

Proposed Template Safe Harbor Agreement for the Solano County Water Agency in Yolo and Solano Counties, California

AGENCY: Fish and Wildlife Service, Interior.

ACTION: Notice of availability.

SUMMARY: This notice advises the public that the Solano County Water Agency and the U.S. Fish and Wildlife Service (Service) have developed a Template Safe Harbor Agreement (Agreement) for the federally threatened valley elderberry longhorn beetle (Desmocerus californicus dimorphus). While not signatory to this Agreement, non-Federal land owners and managers who elect to enroll their property under the Agreement (participants) will develop individual site plans and be issued individual 10(a)(1)(A) enhancement of survival permits under the Endangered Species Act of 1973, as amended (Act). The Agreement is available for public comment.

DATES: To ensure consideration, please send your written comments by November 22, 2013.

ADDRESSES: Send comments to Mr. Rick Kuyper, via U.S. Mail at U.S. Fish and Wildlife Service, Sacramento Fish and Wildlife Office, 2800 Cottage Way, W-2605, Sacramento, California 95825.

FOR FURTHER INFORMATION CONTACT: Mr. Rick Kuyper, Sacramento Fish and Wildlife Office (see ADDRESSES); telephone: (916) 414-6600.

SUPPLEMENTARY INFORMATION:

Availability of Documents

You may obtain copies of the document for review by contacting the individual named above (see FOR FURTHER INFORMATION CONTACT). You may also make an appointment to view the document at the above address during normal business hours (see ADDRESSES).

Background

Under a Safe Harbor Agreement, participating landowners voluntarily undertake management activities on their property to enhance, restore, or maintain habitat benefiting species listed under the Act (16 U.S.C. 1531 et seq.). Safe Harbor Agreements, and the subsequent enhancement of survival permits that are issued pursuant to Section 10(a)(1)(A) of the Act, encourage private and other non-Federal property owners to implement conservation efforts for listed species by assuring property owners that they will not be subjected to increased property use restrictions as a result of their efforts to attract listed species to their property, to increase the numbers or distribution of listed species already on their property. Application requirements and issuance criteria for enhancement of survival permits through Safe Harbor Agreements are found in 50 CFR 17.22(c) and 17.32(c). These permits allow any necessary future incidental take of covered species above the mutually agreed upon baseline conditions for those species in accordance with the terms and conditions of the permits and accompanying agreements.

The Agreement is expected to promote the recovery of the covered species on non-Federal properties within the Putah Creek watershed in Yolo and Solano Counties. The proposed duration of the Agreement is 20 years. The enhancement of survival permits issued to participants would authorize the incidental taking of the covered species associated with: the restoration, enhancement, and maintenance of suitable habitat for the covered species; routine activities associated with agricultural lands management; property upkeep; and the potential future return of any property included in the Agreement to baseline conditions. Under this Agreement, participants may include their properties by entering into a Site Plan with the Service. Each Site Plan will specify the restoration and/or enhancement, and management activities to be carried out on that specific property and a timetable for implementing those activities. All site plans will be reviewed by the Service to determine whether the proposed activities will result in a net conservation benefit for the covered species and meet all required standards of the Safe Harbor Policy (64 FR 32717). The Service will issue individual 10(a)(1)(A) enhancement of survival permits to the participant. The Solano County Water Agency will assist with development of the site plans, implement the restoration and management of riparian habitat, and conduct monitoring as required under the Agreement. participants would receive assurances under our “no surprises” regulations (50 CFR 17.22(c)(5) and 17.32(c)(5)) for the covered species. In addition to meeting other criteria, actions to be performed under an enhancement of survival permit must not jeopardize the existence of federally listed fish, wildlife, or plants.

Public Review and Comments

The Service has made a preliminary determination that the proposed Agreement and permit application are eligible for categorical exclusion under the National Environmental Policy Act of 1969 (NEPA). We explain the basis for this determination in an Environmental Action Statement that is also available for public review.

Individuals wishing copies of the our Environmental Action Statement, and/or copies of the full text of the Agreement, including a map of the proposed permit area, should contact the office and personnel listed in the ADDRESSES section above.

Before including your address, phone number, email address, or other personal identifying information in your comment, you should be aware that your entire comment—including your personal identifying information—may be made publicly available at any time. While you can ask us in your comment to withhold your personal identifying information from public review, we cannot guarantee that we will be able to do so.

The Service will evaluate this permit application, associated documents, and comments submitted to determine whether the permit application meets the requirements of section 10(a) of the Act and NEPA regulations. If the Service determines that the requirements are met, we will sign the proposed Agreement and issue enhancement of survival permits under section 10(a)(1)(A) of the Act to participants for take of the covered species incidental to otherwise lawful activities in accordance with the terms of the Agreement. The Service will not make our final decision until after the end of the 30-day comment period and will fully consider all comments received during the comment period.

The Service provides this notice pursuant to section 10(c) of the Act and pursuant to implementing regulations for NEPA (40 CFR 1506.6).

Dated: October 17, 2013.
Jennifer M. Norris,
Field Supervisor, Sacramento Fish and Wildlife Office, Sacramento, California.

[FR Doc. 2013-24806 Filed 10-22-13; 8:45 am]

BILLING CODE 4310-55-P